DEPARTMENT OF COMMERCE

National Oceanic and Atmospheric Administration

RIN 0648-XF696

Marine Mammals; File No. 21217

AGENCY: National Marine Fisheries Service (NMFS), National Oceanic and Atmospheric Administration (NOAA), Commerce.

ACTION: Notice; receipt of application for permit amendment.

SUMMARY: Notice is hereby given that Aaron Roberts, Ph.D., University of North Texas, Biological Sciences, 1155 Union Circle, #310559, Denton, TX 76203, has applied for an amendment to Scientific Research Permit No. 21217.

DATES: Written, telefaxed, or email comments must be received on or before September 5, 2018.

ADDRESSES: The application and related documents are available for review by selecting “Records Open for Public Comment” from the “Features” box on the Applications and Permits for Protected Species (APPS) home page, https://apps.nmfs.noaa.gov, and then selecting File No. 21217 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 21217 in the subject line of the email comment.

Those individuals requesting a public hearing should submit a written request to the Chief, Permits and Conservation Division at the address listed above. The request should set forth the specific reasons why a hearing on the application would be appropriate.

FOR FURTHER INFORMATION CONTACT: Jennifer Skidmore or Sara Young (301) 427-8401.

SUPPLEMENTARY INFORMATION: The subject amendment to Permit No. 21217 is requested under the authority of the Marine Mammal Protection Act of 1972, as amended (MMPA; 16 U.S.C. 1361 et seq.) and the regulations governing the taking and importing of marine mammals (50 CFR part 216).

Permit No. 21217, issued on November 6, 2017 (82 FR 60968; December 26, 2017), authorizes the permit holder to import biological samples from up to 30 harp seals (Pagophilus groenlandicus) and 30 hooded seals (Cystophora cristata) from Canada to study the effects of polybrominated diphenyl ethers (PBDEs) on the fitness and immune function in two species of phocid seals. The permit holder is requesting the permit be amended to increase the number of samples imported from each species from 30 to 60 individuals and to include the import of samples collected during the 2019 field season in Canada. All other aspects of the permitted activities would not change.

In compliance with the National Environmental Policy Act of 1969 (42 U.S.C. 4321 et seq.), an initial determination has been made that the proposed activities are categorically excluded from the requirement to prepare an environmental assessment or environmental impact statement.

Concurrent with the publication of this notice in the Federal Register, NMFS is forwarding copies of these applications to the Marine Mammal Commission and its Committee of Scientific Advisors.

Dated: July 31, 2018.
Julia Marie Harrison,
Chief, Permits and Conservation Division, Office of Protected Resources, National Marine Fisheries Service.

[FR Doc. 2018-16719 Filed 8-3-18; 8:45 am]

BILLING CODE 3510-22-P